DEPARTMENT OF THE INTERIOR

Bureau of Land Management

[16X LLAK980600.L1820000.XX0000.LXSIARAC0000]

Notice of Public Meeting, BLM Alaska Resource Advisory Council

AGENCY: Alaska State Office, Bureau of Land Management, Interior.

ACTION: Notice of public meeting.

SUMMARY: In accordance with the Federal Land Policy and Management Act of 1976 as amended (FLPMA) and the Federal Advisory Committee Act of 1972 (FACA), the Bureau of Land Management (BLM) Alaska Resource Advisory Council (RAC) will meet as indicated below.

DATES: The meeting will be held March 10, 2016, at the BLM Alaska Fairbanks District Office, 1150 University Avenue, Fairbanks, Alaska 99709-3844. The meeting starts at 9:00 a.m. in the Kobuk Conference Room. The council will accept comments from the public from 1:30-2:30 p.m.

FOR FURTHER INFORMATION CONTACT: Thom Jennings, RAC Coordinator, BLM Alaska State Office, 222 W. 7th Avenue #13, Anchorage, AK 99513; tjenning@blm.gov; 907-271-3335. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member council advises the Secretary of the Interior, through the BLM, on a variety of planning and management issues associated with public land management in Alaska. At this meeting, the council will discuss the Regional Mitigation Strategy for the Northeast National Petroleum Reserve in Alaska (NPR-A) and other topics of interest to the RAC. An agenda will be posted to the BLM Alaska RAC Web site (www.blm.gov/ak/rac) by March 1, 2016. All meetings are open to the public. During the public comment period, depending upon the number of people wishing to comment, time for individual oral comments may be limited. Please be prepared to submit written comments. Before including your address, phone number, email address, or other personal identifying information in your comment, you should be aware that your entire comment—including your personal identifying information—may be made publicly available at any time. While you can ask us in your comment to withhold your personal identifying information from public review, we cannot guarantee that we will be able to do so. Individuals who plan to attend and need special assistance, such as sign language interpretation, transportation, or other reasonable accommodations, should contact the BLM RAC Coordinator listed above.

Dated: January 22, 2016.
Ted A. Murphy,
Acting State Director.

[FR Doc. 2016-01963 Filed 2-2-16; 8:45 am]

BILLING CODE 4310-JA-P